DEPARTMENT OF ENERGY

Federal Energy Regulatory Commission

[Docket No. RP00-232-000]

Southern Natural Gas Company; Notice of Proposed Changes to FERC Gas Tariff

April 4, 2000.

Take notice that on March 31, 2000, Southern Natural Gas Company (Southern) tendered for filing as part of its FERC Gas Tariff, Seventh Revised Volume No. 1, the following tariff sheets with the proposed effective date of April 1, 2000.

Tariff Sheets Applicable to Contesting Parties:

Fiftieth Revised Sheet No. 14

Seventy First Revised Sheet No. 15

Fiftieth Revised Sheet No. 16

Seventy First Revised Sheet No. 17

Tariff Sheets Applicable to Settling Parties:

Thirty Sixth Revised Sheet No. 14a

Forty Second Revised Sheet No. 15a

Thirty Sixth Revised Sheet No. 16a

Forty Second Revised Sheet No. 17a

Southern submits the revised tariff sheets to its FERC Gas Tariff Seventh Revised Volume No. 1, to reflect a change in FT/FT-NN Southern Energy Cost Surcharge, due to an increase in the FERC interest rate effective April 1, 2000.

Southern states that copies of the filing were served upon all parties listed on the official service list compiled by the Secretary in these proceedings.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://ferc.fed.us/online/rims.htm (call 202-208-2222 for assistance).

Linwood A. Watson, Jr.,
Acting Secretary.

[FR Doc. 00-8760 Filed 4-7-00; 8:45 am]

BILLING CODE 6717-01-M